DEPARTMENT OF COMMERCE

National Oceanic and Atmospheric Administration

RIN 0648-XP66

New England Fishery Management Council; Public Meeting

AGENCY: National Marine Fisheries Service (NMFS), National Oceanic and Atmospheric Administration (NOAA), Commerce.

ACTION: Notice of a public meeting.

SUMMARY: The New England Fishery Management Council (Council) will hold a four-day Council meeting, on June 22-25, 2009, to consider actions affecting New England fisheries in the exclusive economic zone (EEZ).

DATES: The meeting will begin on Monday, June 22, beginning at 1 p.m., and on Tuesday, Wednesday and Thursday, June 23-25, beginning at 8 a.m. each day.

ADDRESSES: The meeting will be held at the Holiday Inn by the Bay, 88 Spring Street, Portland, ME 04101; telephone: (207) 775-2311; fax: (207) 761-8244.

Council address: New England Fishery Management Council, 50 Water Street, Mill 2, Newburyport, MA 01950.

FOR FURTHER INFORMATION CONTACT: Paul J. Howard, Executive Director, New England Fishery Management Council; telephone: (978) 465-0492.

SUPPLEMENTARY INFORMATION:

Monday, June 22, 2009

Following introductions and any announcements, the Council will receive a series of brief reports from the Council Chairman and Executive Director, the NOAA Fisheries Northeast Regional Administrator, Northeast Fisheries Science Center and Mid-Atlantic Fishery Management Council liaisons, NOAA General Counsel, representatives of the U.S. Coast Guard and the Atlantic States Marine Fisheries Commission, as well as NOAA Enforcement and the Council's Enforcement Committee Chairman. These reports will be followed by a review of any experimental fishery permit applications that have been received since the last Council meeting. The Council will also receive a report from its Habitat Committee, with a focus on reviewing a model used to assess the adverse impacts of fishing on essential fish habitat and for the development of alternatives to minimize those effects. The committee also will present a letter for Council approval to be forwarded offshore energy proponents in MA about the potential adverse impacts of an offshore wind farm project on essential fish habitat. The day will conclude with a report from the Interspecies Committee about future work products and the presentation of a white paper on the use of Annual Catch Limits (ACLs) and Accountability Measures (AMs) in New England Council Fishery Management Plans (FMPs).

Tuesday, June 23, 2009

As the first agenda item of the day, the Chairman of the Council's Scientific and Statistical Committee will review the committee's recommendations to the Council on Acceptable Biological Catch (ABC) and ACLs to be used in the Monkfish FMP, and for proposed methods to be used for the calculations of ABC in the Herring and Groundfish FMPs. The remainder of the day will be spent on approving alternatives for inclusion in a Draft Environmental Impact Statement that will accompany Amendment 4 to the Council's Herring FMP. Measures under consideration include, in addition to ACLs and AMs, a comprehensive catch monitoring program, measures to address river herring bycatch, possible criteria for midwater trawl vessel access to areas closed for the conservation of species in the groundfish stock complex and measures that would address interactions with the mackerel fishery. The Council also will discuss the timeline for completion of the amendment as well as a fishery specifications package. The day will conclude with a briefing by NMFS staff concerning an agency proposal to require the use of Turtle Excluder Devices in trawl gear, including several that are used in New England fisheries.

Wednesday, June 24, 2009

The entire third day of the Council meeting will be set aside for Council approval of Amendment 16 to the Northeast Multispecies (Groundfish) FMP. Prior to discussion and decision-making, there will be a review of the public comments received regarding the proposed action and reports from the Council's Groundfish and Recreational Advisory Panels. Amendment 16 addresses several new requirements included in the reauthorized Magnuson-Stevens Fishery Conservation and Management Act (MSRA), continues the stock rebuilding programs adopted in previous Council actions and may institute significant changes to the existing groundfish management program, including the implementation of “sectors”, a catch share-based system.

Thursday, June 25, 2009

The morning will begin with the completion of any issues related to Council approval of Amendment 16 to the Groundfish FMP. A report by the Research Steering Committee Chairman will follow and will include recommendations developed concerning the allocation of cooperative research funds recently announced by NOAA's leadership. The Council will then hold an open comment period during which any interested party may address the Council about fishery management-related issues that are otherwise not listed on the agenda. By late morning or early afternoon, the Monkfish Committee will review and ask for approval of alternatives to be included in a Draft Environmental Impact Statement that will accompany Amendment 5 to the Monkfish FMP. Amendment 5 will implement management reference points to bring the FMP into compliance with the MSRA. Amendment 5 will also implement management measures (days-at-sea and trip limits) for 2011-13 to update current measures, and also modify other elements of the management system, such as, but not limited to gear restrictions, minimum fish size, vessel monitoring systems, measures to reduce discards, or any other component of the current plan.

Although other non-emergency issues not contained in this agenda may come before this Council for discussion, those issues may not be the subjects of formal action during this meeting. Council action will be restricted to those issues specifically listed in this notice and any issues arising after publication of this notice that require emergency action under section 305(c) of the Magnuson-Stevens Act, provided that the public has been notified of the Council's intent to take final action to address the emergency.

Special Accommodations

This meeting is physically accessible to people with disabilities. Requests for sign language interpretation or other auxiliary aids should be directed to Paul J. Howard (see ADDRESSES) at least 5 days prior to the meeting date.

Dated: June 1, 2009.
Tracey L. Thompson,
Acting Director, Office of Sustainable Fisheries, National Marine Fisheries Service.

[FR Doc. E9-13109 Filed 6-4-09; 8:45 am]

BILLING CODE 3510-22-S